NUCLEAR REGULATORY COMMISSION

[Docket No. 72-3]

Carolina Power & Light Company, H.B. Robinson Independent Spent Fuel Storage Installation; Notice of Docketing of Materials License SNM-2502 Amendment Application

By letter dated September 3, 2003, Carolina Power and Light Company (CP&L) submitted an application to the Nuclear Regulatory Commission (NRC or the Commission), in accordance with 10 CFR part 72, requesting the amendment of the H. B. Robinson (HBR) independent spent fuel storage installation (ISFSI) license (Materials License No. SNM-2502) and the Technical Specifications for the ISFSI located at Darlington County, South Carolina. CP&L is seeking NRC approval to amend the materials license to make editorial changes to the ISFSI's technical specifications. Specifically, CP&L requested changes to the drawing numbers referenced in the technical specifications from the original ISFSI vendor's numbers to the H. B. Robinson plant's numbers used for drawing control. The requested changes do not affect the design, operation, maintenance, or surveillance of the ISFSI.

This application was docketed under 10 CFR part 72; the ISFSI Docket No. is 72-3 and will remain the same for this action. The amendment of an ISFSI license is subject to NRC approval.

The Commission may issue either a notice of hearing or a notice of proposed action and opportunity for hearing in accordance with 10 CFR 72.46(b)(1) or, if a determination is made by the Director, Office of Nuclear Material Safety and Safeguards, or his designee, that the amendment does not present a genuine issue as to whether public health and safety will be significantly affected, the Director may take immediate action on the amendment in accordance with 10 CFR 72.46(b)(2) and provide notice of the action taken and an opportunity for interested persons to request a hearing on whether the action should be rescinded or modified.

For further details with respect to this application, see the application dated September 3, 2003, which is available for public inspection at the Commission's Public Document Room, One White Flint North Building, 11555 Rockville Pike, Rockville, MD or from the publicly available records component of NRC's Agencywide Documents Access and Management System (ADAMS) under Accession No. ML032510880. The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to pdr@nrc.gov.

Dated at Rockville, Maryland, this 24th day of October 2003.
For the Nuclear Regulatory Commission.
James Randall Hall,
Senior Project Manager, Licensing Section, Spent Fuel Project Office, Office of Nuclear Material Safety and Safeguards.

[FR Doc. 03-27559 Filed 10-31-03; 8:45 am]

BILLING CODE 7590-01-P